DEPARTMENT OF THE INTERIOR

Fish and Wildlife Service

[FWS-R9-FHC-2009-N0101; 94300-1124-0000-T5]

Coastal Barrier Resources System Digital Mapping Pilot Project

AGENCY: Fish and Wildlife Service, Interior.

ACTION: Notice of extension of the public comment period on report and draft maps; notice of public meetings via Web cast and teleconference.

SUMMARY: We, the U.S. Fish and Wildlife Service (Service), advise the public that we are extending the public review and comment period for the Report to Congress: John H. Chafee Coastal Barrier Resources System Digital Mapping Pilot Project and draft maps. Also, we plan to host public meetings via Web cast and teleconference on the John H. Chafee Coastal Barrier Resources System (CBRS) Digital Mapping Pilot Project.

DATES: Comment Period: To ensure consideration, we must receive your written comments on the report and draft maps by August 5, 2009.

Public Meetings: We will hold public meetings via Web cast and teleconference; see “Public Meetings” and “Meeting Participation Information” under SUPPLEMENTARY INFORMATION for meeting dates, times, and registration information.

ADDRESSES: Mail or hand-deliver (during normal business hours) comments to Katie Niemi, Coastal Barriers Coordinator, Division of Habitat and Resource Conservation, U.S. Fish and Wildlife Service, 4401 N. Fairfax Drive, Room 860A, Arlington, VA 22203 or send comments by electronic mail (e-mail) to CBRAcomments@fws.gov.

FOR FURTHER INFORMATION CONTACT: Katie Niemi, Coastal Barriers Coordinator, (703) 358-2161.

SUPPLEMENTARY INFORMATION:

Background

The Coastal Barrier Resources Act (CBRA) of 1982 (16 U.S.C. 3501 et seq.) established the CBRS, a defined set of geographic units located along the Atlantic, Gulf of Mexico, Great Lakes, Puerto Rico, and U.S. Virgin Island coasts. CBRA removes the Federal incentive for development in these high-risk and biologically important coastal barrier habitats by limiting Federal subsidies such as flood insurance within the CBRS. Development can still occur provided that private developers or other non-Federal parties bear the full cost.

The CBRS boundaries are depicted on U.S. Geological Survey topographic quadrangle maps, which are, on average, 30 years old. Because the maps are outdated technologically, the CBRS boundaries do not always align precisely with the geomorphic, cultural, or development features that they were intended to follow. As a result, some properties and projects intended to be eligible for Federal subsidies are not eligible and vice versa. Modernizing the CBRS maps using digital technology addresses the inaccuracies of the outdated maps; corrects errors that adversely affect private property owners; increases efficiencies and accessibility by allowing the integration of CBRS information into digital planning tools; conserves natural resources; and helps preserve the long-term integrity of the CBRS.

The pilot project creates draft revised maps for 70 CBRS units (representing approximately 10 percent of the entire CBRS) and establishes a framework for modernizing the remainder of the CBRS maps. The different types of proposed boundary changes reflected in the draft pilot project maps include:

• Alignment with geomorphic features (e.g., shorelines), development features (e.g., edge of a road, property parcel boundaries), and cultural features (e.g., park boundaries);

• Adjustment to reflect geomorphic change;

• Adjustment to map channel boundaries consistently;

• Addition of associated aquatic habitat;

• Addition of conservation or recreation area to existing Otherwise Protected Areas (OPAs);

• Addition of new OPAs;

• Addition of undeveloped fastland (land above mean high tide) not currently within the CBRS;

• Removal of private land that was inadvertently included within an OPA; and

• Reclassification from System unit to OPA and vice versa.

In cases where we found no compelling evidence to propose a revised boundary, the existing boundary remains unchanged.

For more information on the pilot project, as well as how to get a copy of the report and draft maps, see our April 7, 2009, notice (74 FR 15743) or visit the Service's Internet site: http://www.fws.gov/habitatconservation/coastal_barrier.html.

Comment Period Extension

We are extending the public comment period on the Report to Congress: John H. Chafee Coastal Barrier Resources System Digital Mapping Pilot Project and draft maps, which we originally opened on April 7, 2009 (74 FR 15743), to allow additional time for public meetings and submission of comments by the public. If you previously submitted comments, you need not resubmit them; we have already incorporated them into the public record and will fully consider them when we finalize the pilot project maps and submit the report to Congress, per the directives of the Coastal Barrier Resources Reauthorization Act of 2005 (CBRRA of 2005; Pub. L. 109-226).

Public Meetings

We will hold the following public meetings via Web cast and teleconference. The purpose of the meetings is to give the public an overview of the pilot project effort and to offer an opportunity for questions and answers regarding the draft maps contained in the pilot project. See Appendix A for specific units we will discuss for the involved States.

Date | Time (eastern time) | States
July 14, 2009 | 10 a.m.-12 p.m. | Delaware and Louisiana.
July 14, 2009 | 1-3 p.m. | North Carolina and South Carolina.
July 15, 2009 | 10 a.m.-12 p.m. | North Florida.
July 15, 2009 | 1-3 p.m. | South Florida.

Meeting Participation Information

These meetings are open to the public. Members of the public planning to participate must register at http://www.fws.gov/habitatconservation/coastal_barrier.html by close of business July 10, 2009. Registrants will be provided with instructions for participation via e-mail. If you require additional accommodations, please notify the person listed under FOR FURTHER INFORMATION CONTACT at least one week prior to the meeting.

Public Availability of Comments

Before including your address, phone number, e-mail address, or other personal identifying information in your comment, you should be aware that your entire comment—including your personal identifying information—may be made publicly available at any time. While you can ask us in your comment to withhold your personal identifying information from public review, we cannot guarantee that we will be able to do so.

Appendix A—Pilot Project Units

Below we list the pilot project units for each State, by unit number, unit name, and county.

Number | Name | County
Delaware (1 Map)
DE-07 | Delaware Seashore | Sussex.
DE-07P | Delaware Seashore | Sussex.
H01 | North Bethany Beach | Sussex.
North Carolina (9 Maps)
NC-01 | Pine Island Bay | Currituck, Dare.
NC-05P | Roosevelt Natural Area | Carteret.
NC-06 | Hammocks Beach | Onslow.
NC-06P | Hammocks Beach | Onslow, Carteret.
L05 | Onslow Beach Complex | Onslow.
L06 | Topsail | Onslow.
L07 | Lea Island Complex | Pender, New Hanover.
L08 | Wrightsville Beach | New Hanover.
L09 | Masonboro Island | New Hanover.
South Carolina (1 Map)
M02 | Litchfield Beach | Georgetown.
M03 | Pawleys Inlet | Georgetown.
Florida (27 Maps) | North Florida
FL-01 | Fort Clinch | Nassau.
FL-01P | Fort Clinch | Nassau.
P04A | Usinas Beach | St. Johns.
P05 | Conch Island | St. Johns.
P05P | Conch Island | St. Johns.
P08 | Ponce Inlet | Volusia.
P08P | Ponce Inlet | Volusia.
FL-13P | Spessard Holland Park | Brevard.
P09A | Coconut Point | Brevard.
P09AP | Coconut Point | Brevard.
FL-73P | De Soto | Manatee.
FL-78 | Rattlesnake Key | Manatee.
FL-78P | Rattlesnake Key | Manatee.
FL-82 | Bishop Harbor | Manatee.
FL-80P | Passage Key | Manatee.
FL-81 | Egmont Key | Hillsborough.
FL-81P | Egmont Key | Hillsborough.
FL-83 | Cockroach Bay | Hillsborough.
FL-85P | Sand Key | Pinellas.
P26 | Pepperfish Keys | Dixie.
FL-89 | Peninsula Point | Franklin.
FL-93 | Phillips Inlet | Bay.
FL-93P | Phillips Inlet | Bay.
FL-94 | Deer Lake Complex | Walton.
South Florida
P10A | Blue Hole | Indian River, St. Lucie.
FL-14P | Pepper Beach | St. Lucie.
P11 | Hutchinson Island | St. Lucie.
P11P | Hutchinson Island | St. Lucie.
FL-15 | Blowing Rocks | Martin, Palm Beach.
FL-16P | Jupiter Beach | Palm Beach.
FL-17P | Carlin | Palm Beach.
FL-18P | MacArthur Beach | Palm Beach.
FL-19 | Birch Park | Broward.
FL-19P | Birch Park | Broward.
FL-20P | Lloyd Beach | Broward.
P14A | North Beach | Broward.
FL-39 | Tavernier Key | Monroe.
FL-40 | Snake Creek | Monroe.
FL-43 | Channel Key | Monroe.
FL-44 | Toms Harbor Keys | Monroe.
FL-45 | Deer/Long Point Keys | Monroe.
FL-46 | Boot Key | Monroe.
FL-64P | Clam Pass | Collier.
P17A | Bowditch Point | Lee.
FL-67 | Bunche Beach | Lee.
FL-67P | Bunche Beach | Lee.
P21 | Bocilla Island | Charlotte.
P21P | Bocilla Island | Charlotte.
P22 | Casey Key | Sarasota.
FL-72P | Lido Key | Sarasota.
Louisiana (13 Maps)
LA-01 | Isle Au Pitre | St. Bernard.
LA-02 | Grand Island | St. Bernard.
S04 | Timbalier Bay | Lafourche.
S05 | Timbalier Islands | Terrebonne, Lafourche.
S06 | Isle Dernieres | Terrebonne.
S07 | Point au Fer | Terrebonne, St. Mary.

Dated: June 18, 2009.
Marvin E. Moriarty,
Acting Director, U.S. Fish & Wildlife Service.

[FR Doc. E9-15309 Filed 6-26-09; 8:45 am]

BILLING CODE 4310-55-P